DEPARTMENT OF ENERGY

Federal Energy Regulatory Commission

[Project No. 2614-042]

City of Hamilton, Ohio and American Municipal Power, Inc.; Notice of Application Tendered for Filing With the Commission and Soliciting Additional Study Requests and Establishing Procedural Schedule for Relicensing and a Deadline for Submission of Final Amendments

Take notice that the following hydroelectric application has been filed with the Commission and is available for public inspection.

a. Type of Application: New Major License.

b. Project No.: 2614-042.

c. Date Filed: February 21, 2024.

d. Submitted By: City of Hamilton, Ohio (City of Hamilton) and American Municipal Power, Inc. (American Power).

e. Name of Project: Greenup Hydroelectric Project (Greenup Project).

f. Location: The Greenup Project is located at the U.S. Army Corps of Engineers' (Corps) Greenup Locks and Dam on the Ohio River near the Town of Franklin Furnace in Scioto County, Ohio and Greenup County, Kentucky. The project occupies 12.74 acres of federal land administered by the Corps.

g. Filed Pursuant to: Federal Power Act 16 U.S.C. 791(a)-825(r).

h. Applicant Contact: Jeff Martin, City of Hamilton, Ohio, 9505 West Mary Ingles Highway (KY Route 8), Foster, KY 41043; (606) 747-6103; greenuplicensing@hamilton-oh.gov.

John McGreevy, American Municipal Power, Inc. 1111 Schrock Road Columbus, OH 43229; (614) 540-1111; greenuplicensing@hamilton-oh.gov.

i. FERC Contact: Twyla Cheatwood at (202) 502-8066; or email at twyla.cheatwood@ferc.gov.

j. Cooperating Agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: April 21, 2024.¹

¹ The Commission's Rules of Practice and Procedure provide that if a filing deadline falls on a Saturday, Sunday, holiday, or other day when the Commission is closed for business, the filing deadline does not end until the close of business on the next business day. 18 CFR 385.2007(a)(2). Because the 60-day filing deadline falls on a Sunday (i.e., April 21, 2024), the filing deadline is extended until the close of business on Monday, April 22, 2024.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Acting Secretary, Federal Energy Regulatory Commission, 888 First Street NE, Room 1A, Washington, DC 20426. Submissions sent via any other carrier must be addressed to: Debbie-Anne A. Reese, Acting Secretary, Federal Energy Regulatory Commission, 12225 Wilkins Avenue, Rockville, Maryland 20852. All filings must clearly identify the project name and docket number on the first page: Greenup Hydroelectric Project (P-2614-042).

m. The application is not ready for environmental analysis at this time.

n. The Greenup Project uses the Corps' existing Greenup Locks and Dam and consist of the following existing facilities: (1) a 125-foot-long, 145-foot-wide reinforced concrete intake channel with sloped bottom; (2) three 39-foot-wide intakes equipped with trashracks having a clear bar spacing of 5.9 inches; (3) a 145-foot-wide and 190-foot-long powerhouse consisting of a steel-plate enclosure with concrete filled bulkhead walls located on the east (right) end of the dam, with a combined capacity of 70.27 megawatts; (4) a 125-foot-long and 145-foot-wide reinforced concrete tailrace channel with sloped bottom; (5) a 10-foot-wide gravity dam between the powerhouse and gated spillway which acts as an uncontrolled spillway during open river (flood) conditions; and (6) a steel sheet pile wall that stabilizes the right (east) bank.

The Greenup Project currently operates in a run-of-release mode using flows released by the Corps, and has an estimated average annual energy production of 263,596 megawatt-hours. City of Hamilton and American Power do not propose any new construction and propose to continue operating the project in a run-of-release mode.

o. Copies of the application may be viewed on the Commission's website at http://www.ferc.gov using the “eLibrary” link. Enter the docket number, excluding the last three digits in the docket number field to access the document (P-2535). For assistance, contact FERC Online Support at FERCOnlineSupport@ferc.gov, or call (866) 208-3676 (toll-free) or (202) 502-8659 (TTY).

You may also register online at http://www.ferc.gov/docs-filing/esubscription.asp to be notified via email of new filings and issuances related to this or other pending projects. For assistance, contact FERC Online Support.

p. The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595, or OPP@ferc.gov.

q. Procedural schedule and final amendments: the application will be processed according to the following preliminary schedule. Revisions to the schedule will be made as appropriate.

Milestone | Target date
Issue Deficiency Letter (if necessary) | May 2024.
Request Additional Information (if necessary) | May 2024.
Issue Scoping Document 1 for comments | August 2024.
Request Additional Information (if necessary) | October 2024.
Issue Scoping Document 2 (if necessary) | November 2024.

Final amendments to the application must be filed with the Commission no later than 30 days from the issuance date of the notice of ready for environmental analysis.

Dated: March 1, 2024.
Debbie-Anne A. Reese,
Acting Secretary.

[FR Doc. 2024-04915 Filed 3-7-24; 8:45 am]

BILLING CODE 6717-01-P